DEPARTMENT OF VETERANS AFFAIRS

[OMB Control No. 2900-0101]

Agency Information Collection Activity Under OMB Review: Eligibility Verification Reports (EVRs)

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0101”.

FOR FURTHER INFORMATION CONTACT: Maribel Aponte, Office of Enterprise and Integration, Data Governance Analytics (008), 1717 H Street NW, Washington, DC 20006, (202) 266-4688 or email maribel.aponte@va.gov. Please refer to “OMB Control No. 2900-0101” in any correspondence.

SUPPLEMENTARY INFORMATION: Authority: 38 U.S.C. 1506; 38 CFR 3.277.

Title: Eligibility Verification Reports (EVRs) VA Forms: 21P-0510, 21P-0510 (Spanish), 21P-0512S-1, 21P-0512S-1 (Spanish), 21P-0513-1, 21P-0513-1 (Spanish), 21P-0514-1, 21P-0514-1(Spanish), 21P-0516-1, 21P-0516-1 (Spanish), 21P-0517-1, 21P-0517 (Spanish), 21P-0518-1, 21P-0518-1 (Spanish), 21P-0519C-1, 21P-0519C-1 (Spanish), 21P-0519S-1, 21P-0519S-1 (Spanish).

OMB Control Number: 2900-0101.

Type of Review: Extension of a currently approved collection.

Abstract: A Claimant's eligibility for Pension is determined, in part, by countable family income and net worth. Any individual who has applied for, or receives, VA Pension or Parents' Dependency and Indemnity Compensation (DIC) must promptly notify the VA in writing of any change in entitlement factors. VBA uses Eligibility Verification Reports (EVRs) to receive income and net worth information from Pension and Parents DIC claimants and beneficiaries to evaluate eligibility for benefits. The reported information can result in increased or decreased benefits. Typically, the claimants and beneficiaries utilize the form to notify the VA of changes in the income and net worth, though the forms could be used to reopen a claim for benefits in limited circumstances. In an effort to safeguard Veterans and their beneficiaries from financial exploitation, the instructions on forms within this collection were amended to include information regarding VA-accredited attorneys or agents charging fees in connection with a proceeding before the Department of Veterans Affairs with respect to a claim. An agency may not conduct or sponsor, and a person is not required to respond to a collection of information unless it displays a currently valid OMB control number. The Federal Register Notice with a 60-day comment period soliciting comments on this collection of information was published at 86 FR 67 on April 9, 2021, page 18588.

Affected Public: Individuals or Households.

Estimated Annual Burden: 34,500 hours.

Estimated Average Burden per Respondent: 30 minutes

Frequency of Response: One time.

Estimated Number of Respondents: 69,000.

By direction of the Secretary.
Dorothy Glasgow,
VA PRA Clearance Officer (Alternate), Office of Enterprise and Integration, Data Governance Analytics, Department of Veterans Affairs.

[FR Doc. 2021-12539 Filed 6-14-21; 8:45 am]

BILLING CODE 8320-01-P